NUCLEAR REGULATORY COMMISSION

10 CFR Chapter I

[NRC-2006-0011]

RIN 3150-AH84

Notification of Impending Waiver Termination

AGENCY: Nuclear Regulatory Commission.

ACTION: Notice of impending waiver termination.

SUMMARY: Section 651(e) of the Energy Policy Act of 2005 (EPAct) authorized the U.S. Nuclear Regulatory Commission (Commission or NRC) to issue a time-limited waiver (70 FR 51581; August 31, 2005) to allow continued use and possession of naturally-occurring and accelerator-produced radioactive materials (NARM) while the Commission developed a regulatory framework for regulation of the new byproduct material. The Commission has begun terminating the time-limited waiver in phases in accordance to the provisions of the “Plan for the Transition of Regulatory Authority Resulting from the Expanded Definition of Byproduct Material” (transition plan) issued by the Commission on October 19, 2007 (72 FR 59157). The first phase of waiver terminations occurred on November 30, 2007 (72 FR 68043), and the second phase occurred on September 30, 2008 (73 FR 14376).

This document provides advance notification that on August 7, 2009, the Commission will terminate the time-limited waivers for all remaining non-Agreement States and Canadian licenses that are under NRC jurisdiction.

Alaska, Connecticut, Hawaii, Michigan, New Jersey, and Virginia.

As provided in the transition plan, for existing NRC licensees, NARM use amendments are required within 6 months from the date of waiver termination. For NARM users in non-Agreement States and Canadian licensees without a NRC license, the license applications are required within 12 months from the date waiver termination.

FOR FURTHER INFORMATION CONTACT: Shirley Xu, Office of Federal and State Materials and Environmental Management Programs, U.S. Nuclear Regulatory Commission, Washington, DC 20555-0001, telephone (301) 415-7640 or e-mail Shirley.xu@nrc.gov.

Dated at Rockville, Maryland, this 26th day of January 2009.
For the Nuclear Regulatory Commission.
Annette L. Vietti-Cook,
Secretary of the Commission.

[FR Doc. E9-2179 Filed 1-30-09; 8:45 am]

BILLING CODE 7590-01-P